DEPARTMENT OF THE INTERIOR

Fish and Wildlife Service

[FWS-R8-ES-2020-N174; FXES11140800000-212-FF08EVEN00]

Endangered and Threatened Wildlife and Plants; Draft Habitat Conservation Plan and Draft Categorical Exclusion for the Central California Distinct Population Segment of the California Tiger Salamander; Churchill Family Properties Residential Development Project, San Benito County, California

AGENCY: Fish and Wildlife Service, Interior.

ACTION: Notice of availability; request for comments.

SUMMARY: We, the U.S. Fish and Wildlife Service (Service), announce the availability of a draft habitat conservation plan (HCP) and draft categorical exclusion for activities associated with an application for an incidental take permit (ITP) under the Endangered Species Act of 1973, as amended. The ITP would authorize take of the Central California distinct population segment of the California tiger salamander incidental to activities associated with construction adjacent to the City of Hollister in San Benito County, California. The applicant developed the draft HCP as part of their application for an ITP. The Service prepared a draft low-effect screening form and environmental action statement (CatEx) in accordance with the National Environmental Policy Act to evaluate the potential effects to the natural and human environment resulting from issuing an ITP to the applicant. We invite public comment on these documents.

DATES: Written comments should be received on or before December 20, 2021.

ADDRESSES:

Obtaining Documents: You may download a copy of the draft HCP and draft CatEx at http://www.fws.gov/ventura/, or you may request copies of the documents by U.S. mail (below) or by phone (see FOR FURTHER INFORMATION CONTACT).

Submitting Written Comments: Please send us your written comments using one of the following methods:

• U.S. Mail: Stephen P. Henry, Field Supervisor, Ventura Fish and Wildlife Office, U.S. Fish and Wildlife Service, 2493 Portola Road, Suite B, Ventura, CA 93003.

• Email: mark_ogonowski@fws.gov.

FOR FURTHER INFORMATION CONTACT: Mark Ogonowski, Senior Fish and Wildlife Biologist, by email (see ADDRESSES), via phone at (805) 677-3350, via the Federal Relay Service at 1-800-877-8339 for TTY assistance, or by mail (see ADDRESSES).

SUPPLEMENTARY INFORMATION: We, the U.S. Fish and Wildlife Service, announce the availability of a draft HCP and draft CatEx for activities associated with an application for an ITP under section 10(a)(1)(B) of the Endangered Species Act of 1973, as amended (ESA; 16 U.S.C. 1531 et seq.). The ITP would authorize take of the Central California distinct population segment (DPS) of the California tiger salamander (Ambystoma californiense) incidental to activities associated with the subdivision of two adjoining parcels and construction of residential housing over a 23.5-acre project site adjacent to the City of Hollister in San Benito County, California. The site would be fully developed with single- and multi-family housing, rights of way for streets and utilities, and public open space lots. The applicant developed the draft HCP as part of their application for an ITP. The Service prepared a draft CatEx in accordance with the National Environmental Policy Act of 1969 (NEPA; 42 U.S.C. 4321 et seq.) to evaluate the potential effects to the natural and human environment resulting from issuing an ITP to the applicant. We invite public comment on all of these documents.

Background

The Service listed the Central California DPS of the California tiger salamander as threatened on August 4, 2004 (69 FR 47212). Section 9 of the ESA prohibits “take” of fish and wildlife species listed as endangered (16 U.S.C. 1538), where take is defined to include the following activities: “to harass, harm, pursue, hunt, shoot, wound, kill, trap, capture, or collect, or to attempt to engage in any such conduct” (16 U.S.C. 1532). The take prohibitions of Section 9 are extended to species listed as threatened at the discretion the Secretary of the Department of the Interior.

Under section 10(a)(1)(B) of the ESA (16 U.S.C. 1539(a)(1)(B)), we may issue permits to authorize take of listed fish and wildlife species that is incidental to, and not the purpose of, carrying out an otherwise lawful activity. Regulations governing incidental take permits for threatened species are in the Code of Federal Regulations (CFR) at 50 CFR 17.32. Issuance of an ITP also must not jeopardize the existence of federally listed fish, wildlife, or plant species, pursuant to section 7 of the ESA and 50 CFR 402.02. The permittee would receive assurances under our “No Surprises” regulations (50 CFR 17.32(b)(5)).

The Service designated critical habitat for the Central California DPS of the California tiger salamander on August 23, 2005 (70 CFR 49380). The project site encompasses 2.3 acres of California tiger salamander critical habitat unit EB 15A, representing approximately .09 percent of this unit and .001 percent of critical habitat designated for the species rangewide. The area of critical habitat overlapping the project site is fragmented from the remainder of unit EB 15A by Fairview Road, which is moderately trafficked.

Proposed Activities

The applicant has applied for a permit for incidental take of the Central California DPS of the California tiger salamander. The take would occur in association with the construction of residential housing over a 23.5-acre project site adjacent to the City of Hollister in San Benito County, California.

The HCP includes avoidance and minimization measures for the Central California DPS of the California tiger salamander and mitigation for unavoidable loss of habitat. As mitigation, the applicant proposes to purchase credits from a Service-approved conservation bank. The Service in collaboration with the applicant determined the required mitigation using a habitat model based on the methodology in Calculating Biologically Accurate Mitigation Credits: Insights from the California tiger Salamander (Searcy and Shaffer 2008). The method assigns a value to habitat that scales with the reproductive value of the individuals estimated to be occupying an area, which is a function of (1) distance to each known or potential breeding pond within dispersal distance of the site, and (2) surrounding land-use. A mitigation ratio of 1:1 (reproductive value lost: Reproductive value conserved) is then applied to determine the amount of mitigation required to offset impacts to California tiger salamander habitat based on the per-credit habitat value of mitigation credits at the chosen conservation bank.

Public Availability of Comments

Before including your address, phone number, email address, or other personal identifying information in your comment, you should be aware that your entire comment, including your personal identifying information, may be made publicly available at any time. While you can ask us in your comment to withhold your personal identifying information from public view, we cannot guarantee that we will be able to do so.

Authority

We provide this notice under section 10(c) of the ESA (16 U.S.C. 1531 et seq.) and its implementing regulations (50 CFR 17.32) and NEPA (42 U.S.C. 4321 et seq.) and its implementing regulations (40 CFR 1506.6).

Stephen Henry,
Field Supervisor, Ventura Fish and Wildlife Office, Ventura, California.

[FR Doc. 2021-25120 Filed 11-17-21; 8:45 am]

BILLING CODE 4333-15-P